ENVIRONMENTAL PROTECTION AGENCY

[ER-FRL-8587-1]

Environmental Impacts Statements; Notice of Availability

Responsible Agency: Office of Federal Activities, General Information (202) 564-1399 or http://www.epa.gov/compliance/nepa/.

Weekly receipt of Environmental Impact Statements

Filed 10/20/2008 through 10/24/2008.

Pursuant to 40 CFR 1506.9.

EIS No. 20080432, Draft EIS, COE, LA, Mississippi River-Gulf Outlet (MRGO), Louisiana, and Lake Borgne Wetland Creation and Shoreline Protection Project, Proposes to Construct Shoreline Protection Features Along the Lake Borgne Shoreline to Restore and Nourish Wetlands, Lake Borgne, LA, Comment Period Ends: 12/15/2008, Contact: Dr. William P. Klein 504-862-2540.

EIS No. 20080433, Final EIS, COE, 00, Programmatic—Port of New York and New Jersey Dredged Material Management Plan, 2008 Updated Information, Implementation, NY and NJ, Wait Period Ends: 12/01/2008, Contact: Christopher Ricciardi, Ph.D. 917-790-8630.

EIS No. 20080434, Draft EIS, FTA, TX, Southwest-to-Northeast Rail Corridor Project, Transportation Improvements in the Cities of Fort Worth, Haltom City, North Richland Hills, Colleyville, and Grapevine, Funding and U.S. Army COE Section 404 Permit, Tarrant County, TX, Comment Period Ends: 12/15/2008, Contact: Robert C. Patrick 817-978-0550.

EIS No. 20080435, Draft EIS, FHW, MS, MS-601 Transportation Project, Extension of MS-601 from I-10 Canal Interchange to Connect with U.S. 49, Funding, Harrison and Stone Counties, MS, Comment Period Ends: 12/15/2008, Contact: Cecil W. Vick, Jr. 601-965-4217.

EIS No. 20080436, Draft EIS, FHW, CO, North 1-25 Corridor, To Identify and Evaluate Multi-Modal Transportation Improvement along 61 miles from the Fort Collins-Wellington Area, Funding and U.S. Army COE Section 404 Permit, Denver, CO, Comment Period Ends: 12/30/2008, Contact: Monica Pavlik 720-963-3012.

EIS No. 20080437, Final EIS, NPS, WA, San Juan Island National Historical Park, General Management Plan, Implementation, WA, Wait Period Ends: 12/01/2008, Contact: Cheryle Teaque 206-220-4112.

EIS No. 20080438, Final EIS, FHW, CA, Doyle Drive Project, South Access to the Golden Gate Bridge, Propose to Improve Seismic, Structural, and Traffic Safety, Presidio of San Francisco, San Francisco County Transportation Authority, Marin and San Francisco Counties, CA, Wait Period Ends: 12/01/2008, Contact: Cesar E. Perez 916-498-5065.

EIS No. 20080439, Draft EIS, BLM, OR, John Day Basin Resource Management Plan, To Provide Direction for Managing Public Lands in Central and Eastern Oregon, Prineville District, Grant, Wheeler, Gilliam, Wasco, Sherman, Umatilla, Jefferson and Morrow Counties, OR, Comment Period Ends: 01/29/2009, Contact: Anna Smith 541-416-6747.

Amended Notices

EIS No. 20080327, Draft EIS, FHW, MT, Russell Street/South 3rd Street Reconstruction Project, To Address Current and Projected Safety and Operational Needs, Funding and U.S. Army COE Section 404 Permit, City of Missoula, Missoula County, MT, Comment Period Ends: 11/04/2008, Contact: Lloyd H. Rue 406-449-5302.

Revision to FR Notice Published08/29/2008: Extending Comment Period from 10/20/2008 to 11/04/2008.

EIS No. 20080422, Draft EIS, FTA, MD, Purple Line Transit Project, Proposed 16-Mile Rapid Transit Line Extending from Bethesda in Montgomery County to New Carrollton in Prince George's County, MD, Comment Period Ends: 01/14/2009, Contact: Gail McFadden-Roberts 215-656-7100.

Revision to FR Notice Published 10/17/2008: Extending Comment Period from 12/01/2008 to 01/14/2009.

Dated: October 28, 2008.
Robert W. Hargrove,
Director, NEPA Compliance Division, Office of Federal Activities.

[FR Doc. E8-26028 Filed 10-30-08; 8:45 am]

BILLING CODE 6560-50-P